ELECTION ASSISTANCE COMMISSION

Meeting Notice

AGENCY: U.S. Election Assistance Commission.

ACTION: Notice of Public Quarterly Conference Call for EAC Board of Advisors.

DATES: Monday, November 26, 2018, 2:00-4:00 p.m. (EDT).

ADDRESSES: EAC Board of Advisers Quarterly Conference Call.

To listen and monitor the event as an attendee:

1. Go to: https://eacevents.webex.com/eacevents/onstage/g.php?MTID=e510ecfadd5368d5dd1ccb09b121792fa.

2. Click “Join Now”.

To join the audio conference only:

1. To receive a call back, provide your phone number when you join the event, or

2. call the number below and enter the access code.

U.S. Toll Free: +1-855-892-3345

U.S. TOLL: +1-415-527-5035

Access code: 905 062 514

(See toll-free dialing restrictions at https://www.webex.com/pdf/tollfree_restrictions.pdf).

For assistance: Contact the host, Mark Abbott at mabbott@eac.gov.

FOR FURTHER INFORMATION CONTACT: Bryan Whitener; Telephone: (301) 563-3961.

Purpose: In accordance with the Federal Advisory Committee Act (FACA), Public Law 92-463, as amended (5 U.S.C. Appendix 2), the U.S. Election Assistance Commission (EAC) Board of Advisors will conduct a conference call to discuss current EAC activities.

Agenda: The Board of Advisors (BOA) will receive updates from EAC staff and BOA officers regarding EAC activities; the 2019 BOA Conference; Election Day Activities; Post-Election Day Activities; and BOA Committee/Sub-Committee Updates. The Board of Advisors will receive updates from the following BOA Committees: Resolutions; Voluntary Voting System Guidelines (VVSG); By-Laws; and Strategic Planning. The Board of Advisors will discuss the next Quarterly BOA Conference Call. There will be no votes conducted on this call.

SUPPLEMENTARY INFORMATION: Members of the public may submit relevant written statements to the Board of Advisors with respect to the meeting no later than 5:00 p.m. EDT on Friday, November 23, 2018. Statements may be sent via email at facaboards@eac.gov, via standard mail addressed to the U.S. Election Assistance Commission, 1335 East-West Highway, Suite 4300, Silver Spring, MD 20910, or by fax at 301-734-3108.

This conference call will be open to the public.

Bryan Whitener,
Director, National Clearinghouse on Elections, U.S. Election Assistance Commission.

[FR Doc. 2018-24631 Filed 11-9-18; 8:45 am]

BILLING CODE 6820-KF-P